DEPARTMENT OF HOMELAND SECURITY

[DHS-2019-0028]

Support Anti-Terrorism by Fostering Effective Technologies Act (SAFETY Act)

AGENCY: Science and Technology Directorate (S&T), Department of Homeland Security (DHS).

ACTION: 30-Day Notice of Information Collection; Request for comment. (Extension of a Currently Approved Collection, 1640-0001).

SUMMARY: S&T will submit the following Information Collection Request (ICR) to the Office of Management and Budget (OMB) for review and clearance in accordance with the Paperwork Reduction Act of 1995. The DHS S&T currently has approval to collect information using the forms: Registration of a Seller as an Anti-Terrorism Technology (DHS Form 10010), Request for a Pre-application Consultation (DHS Form 10009), Notice of License of Qualified Anti-Terrorism Technology (DHS Form 10003), Notice of Modification of Qualified Anti-Terrorism Technology (DHS Form 10002), Application for Transfer of SAFETY Act Designation and Certification (DHS Form 10001), Application for Renewal Of SAFETY Act Protections of a Qualified Anti-Terrorism Technology (DHS Form 10057), Application for SAFETY Act Developmental Testing and Evaluation Designation (DHS Form 10006), Application for SAFETY Act Designation (DHS Form 10008), Application for SAFETY Act Certification (DHS Form 10007), SAFETY Act Block Designation Application (DHS Form 10005), and SAFETY Act Block Certification Application (DHS Form 10004) until June 30, 2019 with OMB approval number 1640-0001. The information collection activity will determine if a technology merits SAFETY Act protections. The information requested in the collection instruments are necessary to address not only the criteria and conditions for SAFETY Act Designation and Certification, but also to address other items of note that may be necessary for the Secretary, or their Designee to make their decision.

DATES: Comments are encouraged and accepted until August 7, 2019.

ADDRESSES: Interested persons are invited to submit written comments on this proposed information collection to the Office of Information and Regulatory Affairs, Office of Management and Budget. Comments should be addressed to the OMB Desk Officer, via electronic mail to dhsdeskofficer@omb.eop.gov.

FOR FURTHER INFORMATION CONTACT: DHS/S&T/OCIO Program Manager: Bruce Davidson, bruce.davidson@HQ.DHS.GOV or 202-254-5729 (Not a toll free number).

SUPPLEMENTARY INFORMATION: The SAFETY Act Program collects this information in order to evaluate anti-terrorism technologies, based on the economic and technical criteria contained in the Regulations Implementing the Support Anti-Terrorism by Fostering Effective Technologies Act (6 U.S.C. 441), for protection in accordance with the Act, and therefore encourage the development and deployment of innovative anti-terrorism products and services. The SAFETY Act enacted as part of the Homeland Security Act of 2002, Public Law 107-296. The program provides legal liability protections for providers of qualified anti-terrorism technologies. The collected information is used by S&T to facilitate the evaluation of SAFETY Act applications received from any person, firm, or other entity that provides an anti-terrorism technology. S&T provides a secure website, accessible through www.SAFETYAct.gov, through which the public may submit the information collection, however; the public has the option of providing the information via hardcopy forms that via mail to the program office. The data collection forms have standardized the collection of information that is both necessary and essential for DHS. The Act applies to a broad range of technologies, including products, services, and software, or combinations thereof.

DHS, in accordance with the Paperwork Reduction Act (PRA), 44 U.S.C. 3501 et seq., provides the general public and Federal agencies with an opportunity to comment on proposed, revised, and continuing collections of information. DHS is soliciting comments on the proposed Information Collection Request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Title of Collection: Support Anti-Terrorism by Fostering Effective Technologies Act (SAFETY Act) forms include: DHS Form 10010, DHS Form 10009, DHS Form 10008, DHS Form 10007, DHS Form 10006, DHS Form 10005, DHS Form 10004, DHS Form 10003, DHS Form 10002, DHS Form 10001, DHS Form 100057.

Prior OMB Control Number: 1640-0016.

Prior Federal Register Document: 2019-0010, April 5, 2019.

Type of Review: An extension of an information collection.

Affected Public: Individuals and Households, Businesses and Organizations, State, Local or Tribal Government.

Frequency of Collection: One per Request.

Estimated Time per Respondent: 18.2 minutes or under.

Number of Respondents: 665.

Total Burden Hours: 3,325.

Dated: June 10, 2019.
Gregg Piermarini,
Acting Chief Information Officer, Science and Technology Directorate.

[FR Doc. 2019-14041 Filed 7-5-19; 8:45 am]

BILLING CODE 9110-9F-P